ENVIRONMENTAL PROTECTION AGENCY

[EPA-R07-SFUND-2024-0253; FRL-12014-01-R7]

Notice of Proposed Administrative Settlement Agreement and Covenant Not To Sue by Prospective Purchaser

AGENCY: Environmental Protection Agency (EPA).

ACTION: Notice; request for public comment.

SUMMARY: Notice is hereby given by the U.S. Environmental Protection Agency (EPA), Region 7, of a proposed prospective purchaser agreement, embodied in an Administrative Settlement Agreement and Covenant Not to Sue, with the city of St. Joseph, Missouri. This agreement pertains to a portion of the HPI Products, Inc. facility located at 424 S 8th Street (sometimes referred to as 408 S 8th Street), St. Joseph, Missouri.

DATES: Comments must be received on or before September 6, 2024.

ADDRESSES: The proposed settlement agreement is available for public inspection at EPA Region 7's office. A copy of the proposed agreement may also be obtained from Catherine Chiccine, EPA Region 7, 11201 Renner Boulevard, Lenexa, Kansas 66219, telephone number (913) 551-7917. You may send comments, identified by Docket ID No. EPA-R07-SFUND-2024-0253 to https://www.regulations.gov. Follow the online instructions for submitting comments. You may also send comments, identified by HPI Products Inc. Facility Public Comment, to Ms. Chiccine at the above address or electronically to Chiccine.catherine@epa.gov.

Instructions: All submissions received must include the Docket ID No. for this action. Comments received will be posted without change to https://www.regulations.gov/, including any personal information provided. For detailed instructions on sending comments and additional information on the process, see the “Written Comments” heading of the SUPPLEMENTARY INFORMATION section of this document.

FOR FURTHER INFORMATION CONTACT: Catherine Chiccine, Assistant Regional Counsel, Office of Regional Counsel, U.S. Environmental Protection Agency Region 7, 11201 Renner Boulevard, Lenexa, Kansas 66219; telephone number (913) 551-7917; email address chiccine.catherine@epa.gov.

SUPPLEMENTARY INFORMATION:

Written Comments

Submit your comments, identified by Docket ID No. EPA-R07-SFUND-2024-0253 at https://www.regulations.gov. Once submitted, comments cannot be edited or removed from Regulations.gov. The EPA may publish any comment received to its public docket. Do not submit electronically any information you consider to be Confidential Business Information (CBI) or other information whose disclosure is restricted by statute. If CBI exists, please contact Ms. Chiccine. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

Notice is hereby given by the U.S. Environmental Protection Agency, Region 7, of a proposed prospective purchaser agreement, embodied in an Administrative Settlement Agreement and Covenant Not to Sue, with the city of St. Joseph, Missouri. This agreement pertains to a portion of the former HPI Products, Inc. facility located at 424 S. 8th Street (sometimes referred to as 408 S. 8th Street), St. Joseph, Missouri. The city of St. Joseph, Missouri agrees to purchase the property for reuse and redevelopment and perform a response action. This project will result in a formerly contaminated property being restored to beneficial use by a community stakeholder.

The settlement includes a covenant by the EPA not to sue or take administrative action against the city of St. Joseph, Missouri, pursuant to sections 106 and 107(a) of CERCLA and section 7003 of RCRA. For thirty (30) days following the date of publication of this notice, the EPA will receive written comments relating to the settlement. The EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

Robert D. Jurgens,
Director, Superfund & Emergency Management Division, EPA Region 7.

[FR Doc. 2024-17465 Filed 8-6-24; 8:45 am]

BILLING CODE 6560-50-P